ENVIRONMENTAL PROTECTION AGENCY

[OPP-2004-0060; FRL-7353-2]

Pesticides; Fees and Decision Times for Registration Applications; Correction

AGENCY: Environmental Protection Agency (EPA).

ACTION: Notice; correction.

SUMMARY: EPA issued a notice in the Federal Register of March 17, 2004, concerning pesticide fees and decision times for registration applications. This document is being issued to correct typographical errors.

FOR FURTHER INFORMATION CONTACT: Jean M. Frane, Field and External Affairs Division (7506C), Office of Pesticide Programs, Environmental Protection Agency, 1200 Pennsylvania Ave., NW., Washington, DC 20460-0001; telephone number: (703) 305-5944; fax number: (703) 305-5884; e-mail address: frane.jean@epa.gov

SUPPLEMENTARY INFORMATION:

I. General Information

A. Does this Action Apply to Me?

The Agency included in the notice a list of those who may be potentially affected by this action. If you have questions regarding the applicability of this action to a particular entity, consult the person listed under FOR FURTHER INFORMATION CONTACT.

B. How Can I Get Copies of this Document and Other Related Information?

1. Docket. EPA has established an official public docket for this action under docket identification (ID) number OPP-2004-0060. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

II. What Does this Correction Do?

The typographical errors being corrected in this notice appear in the Congressional Record tables, and were inadvertently presented incorrectly in the March 17 notice.

FR Doc. 04-6001 published in the Federal Register of March 17, 2004 (69 FR 12771) (FRL-7348-2) is corrected as follows:

1. On page 12776, in Table 5, in the entry for EPA No. R35, in the third column, insert a comma after “PHI.”

2. On page 12777, in Table 6, in the entry for EPA No. A41, in the last column, “150,0000” should read “

150,000.”

List of Subjects

Environmental protection, Administrative practice and procedures, Pesticides and pests.

Dated: April 2, 2004.
James Jones,
Director, Office of Pesticide Programs.

[FR Doc. 04-8100 Filed 4-13-04; 8:45 am]

BILLING CODE 6560-50-S